DEPARTMENT OF TRANSPORTATION

Federal Aviation Administration

14 CFR Part 39

[Docket No. FAA-2013-0690; Directorate Identifier 2013-NM-088-AD]

RIN 2120-AA64

Airworthiness Directives; The Boeing Company Airplanes

AGENCY: Federal Aviation Administration (FAA), DOT.

ACTION: Notice of proposed rulemaking (NPRM).

SUMMARY: We propose to supersede airworthiness directive (AD) 2009-24-07, which applies to certain The Boeing Company Model 737-600, -700, -700C, and -800 series airplanes. AD 2009-24-07 currently requires repetitive lubrications of the right and left main landing gear (MLG) forward trunnion pins. AD 2009-24-07 also requires an inspection for discrepancies of the transition radius of the MLG forward trunnion pins, and corrective actions if necessary. For certain airplanes, AD 2009-24-07 requires repetitive detailed inspections for discrepancies (including finish damage, corrosion, pitting, and base metal scratches) of the transition radius of the left and right MLG trunnion pins, and corrective action if necessary. Replacing or overhauling the trunnion pins would terminate the actions required by AD 2009-24-07. This proposed AD would add airplanes to the applicability of AD 2009-24-07. We are proposing this AD to prevent stress corrosion cracking of the forward trunnion pins, which could result in fracture of the pins and consequent collapse of the MLG.

DATES: We must receive comments on this proposed AD by September 27, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington 98057-3356. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Nancy Marsh, Aerospace Engineer, Airframe Branch, ANM-120S, FAA, Seattle Aircraft Certification Office, 1601 Lind Avenue SW., Renton, Washington 98057-3356; phone 425-917-6440; fax 425-917-6590; email: nancy.marsh@faa.gov.

SUPPLEMENTARY INFORMATION:

Comments Invited

We invite you to send any written relevant data, views, or arguments about this proposed AD. Send your comments to an address listed under the ADDRESSES section. Include “Docket No. FAA-2013-0690; Directorate Identifier 2013-NM-088-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On November 12, 2009, we issued AD 2009-24-07, Amendment 39-16095 (74 FR 62231, November 27, 2009), for certain Model 737-600, -700, -700C, and -800 series airplanes. AD 2009-24-07 requires repetitive lubrications of the right and left main landing gear (MLG) forward trunnion pins. AD 2009-24-07 also requires an inspection for discrepancies of the transition radius of the MLG forward trunnion pins, and corrective actions if necessary. For certain airplanes, AD 2009-24-07 also requires repetitive detailed inspections for discrepancies (including finish damage, corrosion, pitting, and base metal scratches) of the transition radius of the left and right MLG trunnion pins, and corrective action if necessary. Replacing or overhauling the trunnion pins would terminate the actions required by that AD. AD 2009-24-07 resulted from a report that the protective finishes on the forward trunnion pins for the left and right MLG might have been damaged during final assembly. We issued AD 2009-24-07 to prevent stress corrosion cracking of the forward trunnion pins, which could result in fracture of the pins and consequent collapse of the MLG.

Actions Since AD 2009-24-07 Was Issued

Since we issued AD 2009-24-07, we have determined that airplanes outside the applicability of AD 2009-24-07, including Model 737-900 airplanes, are also subject to the identified unsafe condition. This determination is due to reports of corrosion protection damage to the forward trunnion pin on some of those airplanes.

Relevant Service Information

We reviewed Boeing Special Attention Service Bulletin 737-32-1402, Revision 1, dated February 7, 2013. For information on the procedures and compliance times, see this service information at http://www.regulations.gov by searching for Docket No. FAA-2013-0690.

FAA's Determination

We are proposing this AD because we evaluated all the relevant information and determined the unsafe condition described previously is likely to exist or develop in other products of the same type design.

Proposed AD Requirements

Although this proposed AD does not explicitly restate the requirements of AD 2009-24-07, this proposed AD would retain all of the requirements of AD 2009-24-07. Those requirements are referenced in the service information identified previously, which, in turn, is referenced in paragraphs (g), (h), and (i) of this proposed AD. This proposed AD would also add airplanes to the applicability statement of AD 2009-24-07. This proposed AD would require accomplishing the actions specified in the service information described previously.

The phrase “corrective actions” is used in this proposed AD. “Corrective actions” are actions that correct or address any condition found. Corrective actions in an AD could include, for example, repairs.

Costs of Compliance

We estimate that this proposed AD affects 431 airplanes of U.S. registry. We estimate the following costs to comply with this proposed AD:

Estimated Costs
Action | Work hours | Average labor rate per hour | Parts | Cost per product | Number of U.S.-registered airplanes | Fleet cost
Repetitive lubrications | 1 | $85 | $0 | $85 per lubrication | 431 | $8,500 per lubrication.
Repetitive inspections | 8 | 85 | 0 | $680 per inspection cycle | 431 | $68,000 per inspection cycle.

We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-24-07, Amendment 39-16095 (74 FR 62231, November 27, 2009), and adding the following new AD:

The Boeing Company: Docket No. FAA-2013-0690; Directorate Identifier 2013-NM-088-AD.

(a) Comments Due Date

The FAA must receive comments on this AD action by September 27, 2013.

(b) Affected ADs

This AD supersedes AD 2009-24-07, Amendment 39-16095 (74 FR 62231, November 27, 2009).

(c) Applicability

This AD applies to The Boeing Company Model 737-600, -700, -700C, -800 and -900 series airplanes, certificated in any category; as identified in Boeing Special Attention Service Bulletin 737-32-1402, Revision 1, dated February 7, 2013.

(d) Subject

Joint Aircraft System Component (JASC)/Air Transport Association (ATA) of America Code 32, Landing gear.

(e) Unsafe Condition

This AD was prompted by a report that the protective finishes on the forward trunnion pins for the left and right MLG might have been damaged during final assembly. We are issuing this AD to prevent stress corrosion cracking of the forward trunnion pins, which could result in fracture of the pins and consequent collapse of the MLG.

(f) Compliance

Comply with this AD within the compliance times specified, unless already done.

(g) Repetitive Lubrications

At the applicable compliance time specified in paragraph 1.E., “Compliance,” of Boeing Special Attention Service Bulletin 737-32-1402, Revision 1, dated February 7, 2013, except as required by paragraph (j) of this AD: Lubricate the left and right MLG forward trunnion pins, in accordance with the Accomplishment Instructions of Boeing Special Attention Service Bulletin 737-32-1402, Revision 1, dated February 7, 2013. Repeat the lubrication thereafter at the applicable time specified in paragraph 1.E., “Compliance,” until all applicable requirements of paragraph (h) of this AD have been accomplished.

(h) Inspection

At the applicable compliance time specified in paragraph 1.E., “Compliance,” of Boeing Special Attention Service Bulletin 737-32-1402, Revision 1, dated February 7, 2013, except as required by paragraph (j) of this AD: Except as provided by paragraph (i) of this AD, do a detailed inspection for discrepancies (including finish damage, corrosion, pitting, and base metal scratches) of the transition radius of the left and right MLG trunnion pins, and do all applicable repetitive inspections and related investigative and corrective actions, in accordance with the Accomplishment Instructions of Boeing Special Attention Service Bulletin 737-32-1402, Revision 1, dated February 7, 2013. Accomplishing the detailed inspections (initial and repetitive) and all applicable corrective actions specified in this paragraph terminates the repetitive lubrication requirements of paragraph (g) of this AD.

(i) Optional Terminating Action

Overhauling or replacing a trunnion pin in accordance with the Accomplishment Instructions of Boeing Special Attention Service Bulletin 737-32-1402, Revision 1, dated February 7, 2013, ends the repetitive lubrication requirements of paragraph (g) of this AD, and the actions required by paragraph (h) of this AD, for that pin only.

(j) Exception to Service Information Specifications

Where Boeing Special Attention Service Bulletin 737-32-1402, Revision 1, dated February 7, 2013, specifies a compliance time “from the date of Revision 1 of this service bulletin,” this AD requires compliance within the specified compliance time after the effective date of this AD.

(k) Credit for Previous Actions

This paragraph provides credit for the actions required by this AD, if those actions were performed before the effective date of this AD using Boeing Special Attention Service Bulletin 737-32-1402, dated August 6, 2008.

(l) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes ODA that has been authorized by the Manager, Seattle ACO, to make those findings. For a repair method to be approved, the repair must meet the certification basis of the airplane, and the approval must specifically refer to this AD.

(4) AMOCs approved previously in accordance with AD 2009-24-07, Amendment 39-16095 (74 FR 62231, November 27, 2009), are approved as AMOCs for the corresponding actions required by paragraphs (g) and (h) of this AD.

(m) Related Information

(1) For more information about this AD, contact Nancy Marsh, Aerospace Engineer, Airframe Branch, ANM-120S, FAA, Seattle Aircraft Certification Office, 1601 Lind Avenue SW., Renton, Washington 98057-3356; phone 425-917-6440; fax 425-917-6590; email: nancy.marsh@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington 98057-3356. For information on the availability of this material at the FAA, call 425-227-1221. You may review copies of the referenced service information at the FAA, Transport Airplane Directorate, 1601 Lind Avenue SW., Renton, Washington 98057-3356. For information on the availability of this material at the FAA, call 425-227-1221.

Issued in Renton, Washington, on August 2, 2013.
Jeffrey E. Duven,
Acting Manager, Transport Airplane Directorate, Aircraft Certification Service.

[FR Doc. 2013-19531 Filed 8-12-13; 8:45 am]

BILLING CODE 4910-13-P